DEPARTMENT OF COMMERCE

Census Bureau

Agency Information Collection Activities; Submission to the Office of Management and Budget (OMB) for Review and Approval; Comment Request; Annual Integrated Economic Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 21, 2025 during a 60-day comment period. This notice allows for an additional 30 days for public comments.

Agency: U.S. Census Bureau, Commerce.

Title: Annual Integrated Economic Survey.

OMB Control Number: 0607-1024.

Form Number(s): This electronic collection has no form number.

Type of Request: Regular submission, Request for a Revision of a Currently Approved Collection.

Number of Respondents: 305,340.

Average Hours per Response: 2 hours and 15 minutes.

Burden Hours: 687,015.

Needs and Uses: The Census Bureau requests Office of Management and Budget (OMB) approval to make revisions to the Annual Integrated Economic Survey (AIES). Since survey year 2023 (collected in calendar year 2024), the Census Bureau has conducted the AIES on an annual basis. The AIES was created to integrate seven annual business surveys into one comprehensive survey. It was designed to combine Census Bureau collections to reduce respondent burden and increase data quality. The AIES provides the only comprehensive national and subnational data on business revenues and expenses on an annual basis. The survey covers domestic, nonfarm employer businesses with operations during the survey year. In survey year 2025 (which will be collected in calendar year 2026), a new sample will be selected. Additionally, the AIES will begin to use 2022 North American Industry Classification System (NAICS) codes in its sampling, collection, and dissemination operations; implement a modular and subsampled content strategy to reduce respondent burden while still meeting data users' needs; collect North American Product Classification System (NAPCS)-based data from retail, wholesale, and services businesses; remove depreciable asset questions, select capital expenditure details (finance leases and software), company-level questions (leased employees and research and development spending), and select revenue details; and collect capital expenditures by type (structures and equipment).

Private businesses, organizations, industry analysts, educators and students, and economic researchers will use the estimates for analyzing and conducting impact evaluations on past and current economic performance, short-term economic forecasts, productivity, long-term economic growth, market analysis, tax policy, capacity utilization, business fixed capital stocks and capital formation, domestic and international competitiveness trade policy, product development, market research, and financial analysis. Trade and professional organizations will use the estimates to analyze industry trends and benchmark their own statistical programs, develop forecasts, and evaluate regulatory requirements. Government program officials and agencies will use the data for research, economic policymaking, and forecasting. Estimates produced from the AIES will serve as a benchmark for Census Bureau indicator programs, such as the Monthly Retail Trade Survey (MRTS); Manufacturers' Shipments, Inventories, and Orders (M3); Monthly Wholesale Trade Survey (MWTS); and Quarterly Services Survey (QSS). The Census Bureau will also continue to use information collected in the AIES to update and maintain the centralized, multipurpose Business Register that provides sampling populations and enumeration lists for the Census Bureau's economic surveys and censuses. The Bureau of Economic Analysis (BEA) will continue to use the estimates to derive industry output for the input-output accounts and for the gross domestic product (GDP). The Bureau of Labor Statistics (BLS) will continue to use the data as input to its Producer Price Index (PPI) and in developing productivity measurements. Additionally, the Federal Reserve Board (FRB) will continue to use the data to prepare the Index of Industrial Production, to improve estimates of investment indicators for monetary policy, and in monitoring retail credit lending. The Centers for Medicare and Medicaid Services (CMS) will continue to use the data to estimate expenditures for the National Health Accounts and for monitoring and evaluating healthcare industries. The Department of the Treasury will continue to use the data to analyze depreciation and to research economic trends.

Frequency: Annually.

Respondent's Obligation: Mandatory.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1024.

Sheleen Dumas,
Departmental PRA Compliance Officer, Office of the Under Secretary for Economic Affairs, Commerce Department.

[FR Doc. 2026-00924 Filed 1-16-26; 8:45 am]

BILLING CODE 3510-07-P